CONSUMER FINANCIAL PROTECTION BUREAU

[Docket No: CFPB-2024-0058]

Privacy Act of 1974; System of Records

AGENCY: Consumer Financial Protection Bureau.

ACTION: Rescindment of a system of records notice.

SUMMARY: Pursuant to the Privacy Act of 1974, and Office of Management and Budget (OMB) Circular No. A-108, the Consumer Financial Protection Bureau (CFPB) proposes to rescind existing system of records “CFPB.003 Non-Depository Institution Supervision Database.” Records maintained under this system of records have been consolidated into the modified “CFPB.002 Supervision and Examination Records.”

DATES: Comments must be received no later than February 3, 2025. The rescindment of the system of records will be effective February 12, 2025 unless the comments received result in a contrary determination.

ADDRESSES: You may submit comments, identified by the title and docket number (see above Docket No. CFPB-2024-0058), by any of the following methods:

• Federal eRulemaking Portal: https://www.regulations.gov. Follow the instructions for submitting comments.

• Email: privacy@cfpb.gov. Include Docket No. CFPB-2024-0058 in the subject line of the email.

• Mail/Hand Delivery/Courier: Kathryn Fong, Chief Privacy Officer, Consumer Financial Protection Bureau, 1700 G Street NW, Washington, DC 20552. Because paper mail in the Washington, DC area and at CFPB is subject to delay, commenters are encouraged to submit comments electronically.

All submissions must include the agency name and docket number for this notice. In general, all comments received will be posted without change to https://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, (202) 435-7058. If you require this document in an alternative electronic format, please contact CFPB_Accessibility@cfpb.gov.

SUPPLEMENTARY INFORMATION: The CFPB rescinds its Privacy Act SORN “CFPB.003 Non-Depository Institution Supervision Database” as the records are maintained as part of a modified system of records. In the course of its supervisory work, the CFPB collects, uses, and maintains information on covered individuals associated with both depository institutions (e.g., banks, savings associations, credit unions) and non-depository institutions, and their affiliates and service providers subject to the authority of the CFPB. The CFPB previously had two systems of records to address supervision related to depository and non-depository institutions, respectively. In order to have a single system of records that addresses all supervisory information, the records maintained under this system of records have been consolidated into the modified “CFPB.002 Supervision and Examination Records.” Rescindment of this SORN will promote the overall streamlining and management of Privacy Act record systems for the CFPB.

SYSTEM NAME AND NUMBER:

CFPB.003-Non-Depository Institution Supervision Database.

HISTORY:

76 FR 45761 (Aug. 1, 2011); 83 FR 23435 (May 21, 2018); 85 FR 3659 (Jan. 22, 2020).

Kathryn Fong,
Chief Privacy Officer, Consumer Financial Protection Bureau.

[FR Doc. 2024-31558 Filed 1-2-25; 8:45 am]

BILLING CODE 4810-AM-P